RAILROAD RETIREMENT BOARD

Proposed Collection; Comment Request

Summary: In accordance with the requirement of section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Type of Information Collection: New Collection (Request for a new OMB Control Number).

Title and Purpose of Information Collection: Citizen-Centric Online Self-Services (CCOSS) Authorization; OMB 3220-NEW.

Section 7(b)(6) of the Railroad Retirement Act (RRA) (45 U.S.C. 231f) and 20 CFR part 321 under the Railroad Unemployment Insurance Act (RUIA) permits annuitants, beneficiaries and claimants to submit mailing address and direct deposit authorizations to facilitate the Railroad Retirement Board (RRB) verification and certification of benefit payments electronically. The Government Paperwork Elimination Act requires federal agencies to provide the public the option to submit, maintain and transact business electronically. The procedures pertaining to the RRB's authority to collection direct deposit and mailing address information to carry out RRA and RUIA benefit payment are contained in 45 U.S.C. 231 and 20 CFR part 321.

The RRB propose to use “Form COA-1, Change of Address (internet)” to allow railroad annuitants, beneficiaries and claimants to initiate a change to their mailing address through the Citizen-Centric Online Self-Services (CCOSS) on the myRRB web portal (RRB.gov) after completing the Login.gov identify verification process. Railroad annuitants, beneficiaries and claimants can update their mailing address as needed and retirees, who have multiple residences and live temporarily at each residence for part of the year, can request two or more address changes annually. The RRB will use the information to verify the name and address of each annuitant, beneficiary and claimant entitled to receive a benefit payment.

The RRB propose to use “Form DDC-1, Direct Deposit Change (internet)” to allow a railroad annuitants, beneficiaries and claimants to update their direct deposit information through the Citizen-Centric Online Self-Services (CCOSS) on the myRRB web portal (RRB.gov) after completing the Login.gov identify verification process. Railroad annuitants, beneficiaries and claimants can update their direct deposit information as needed. The RRB will provide the information to the U.S. Department of the Treasury to process electronic fund transfer payments to the claimant's financial institution account.

Proposed Estimate of Annual Respondent Burden
Form No. | Annual responses | Time (minutes) | Burden (hours)
COA-1 | 30,395 | 8 | 4,025
DOA-1 | 37,595 | 6 | 3,760
Total | 67,990 |  | 7,785

Additional Information or Comments: To request more information or to obtain a copy of the information collection justification, forms, and/or supporting material or comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2025-10295 Filed 6-5-25; 8:45 am]

BILLING CODE 7905-01-P